DEPARTMENT OF HEALTH AND HUMAN SERVICES

Centers for Disease Control and Prevention

Disease, Disability, and Injury Prevention and Control Special Emphasis Panel (SEP)—RFA-CE-18-003; Correction

Notice is hereby given of a change in the meeting of the Disease, Disability, and Injury Prevention and Control Special Emphasis Panel (SEP)—RFA-CE-18-003; May 16-17, 2018, 9:00 a.m.—5:00 p.m., EDT which was published in the Federal Register on April 6, 2018 Volume 83, Number 67, page 14854.

The meeting place should read as follows: InterContinental Buckhead Atlanta, 3315 Peachtree Road NE, Atlanta, GA 30326.

FOR FURTHER INFORMATION CONTACT: Dahna Batts, M.D., FACEP, Scientific Review Official, NCIPC, CDC, 4770 Buford Highway NE, Mailstop F-63, Atlanta, GA 30341, Telephone (404) 639-2485; Email: dbatts@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2018-09710 Filed 5-7-18; 8:45 am]

BILLING CODE 4163-18-P